OCCUPATIONAL SAFETY AND HEALTH REVIEW COMMISSION

Privacy Act of 1974; New, Deleted, and Altered Systems of Records; Compilation of Blanket Routine Uses

AGENCY: Occupational Safety and Health Review Commission.

ACTION: Notice.

SUMMARY: This notice announces proposed new, deleted and altered systems of records, maintained by the Occupational Safety and Health Review Commission (Review Commission or OSHRC), in accordance with the Privacy Act of 1974, 5 U.S.C. 552a, as amended, and Presidential Memorandum of May 14, 1998. In addition, by this notice, the Review Commission reassigns in sequence the relevant OSHRC numbers to its systems of records in light of the deleted systems of records. Also included is a compilation of blanket routine uses already published.

DATES: Comments must be received by the Review Commission by September 17, 2001. The new and revised systems of records will become effective on October 22, 2001, without any further notice in the Federal Register, unless comments or government approval procedures necessitate otherwise.

ADDRESSES: Submit any written comments to Patricia A. Randle, Executive Director and Chief Information Officer, Occupational Safety and Health Review Commission, 1120 20th St., NW., Ninth Floor, Washington, DC 20036-3419.

FOR FURTHER INFORMATION CONTACT: Patricia A. Randle, Executive Director and Chief Information Officer, Occupational Safety and Health Review Commission, 1120 20th St., N.W., Ninth Floor, Washington, D.C. 20036-3419, telephone (202) 606-5380.

SUPPLEMENTARY INFORMATION: The Privacy Act applies to information about individuals that may be retrieved by a unique identifier associated with each individual, such as a name or social security number. The information about each individual is called a “record” and the system, whether manual or computer-driven, is called a “system of records.” Aspects of a system may change over time, such as the system location, system manager or storage method.

The May 14, 1998 Presidential memorandum directed executive departments and agencies to conduct a thorough review of all agency systems of records for accuracy and completeness. The memorandum specifically directed agencies to consider changes in technology, function, and organization that may have made the systems out of date, and to review the routine uses published in the system notices to make sure they continue to be necessary and compatible with the purpose for which the information is collected. The memorandum also directed agencies to identify systems that may not have been described in a notice published in the Federal Register and to publish notices for any changes to the agency systems of records.

In its review, the Review Commission determined that one additional systems of records should be identified and included in the Review Commission's systems of records. It was also determined that, for accuracy and completeness, five other systems needed revision to indicate changes to system names, locations, categories of records in the system, names of systems managers, storage methods, retrieval methods, safeguards, and retention periods. Five systems of records were identified as in need of deletion, as maintenance of these systems was no longer relevant and necessary to accomplish an agency purpose, and the numbers of these systems were reassigned sequentially to the remaining systems of records. In addition, a “housekeeping” change was made to consistently refer to the entire agency as the “Review Commission” or “OSHRC,” as opposed to “Commission.”

The Review Commission proposes the following additional system of records, not previously identified, in which information by individual name or identifier is relevant and necessary to an agency purpose: OSHRC-6 Case Management/Tracking System. In this newly identified system of records, information is retrieved through the use of an individual name, case docket number, or computer assigned reference code.

Regarding its ten previously identified systems of records, OSHRC-1 to OSHRC-6 and OSHRC-8 to OSHRC-11 (OSHRC-7 was deleted (see 44 FR 18572, March 28, 1979)), the Review Commission proposes revisions to: (1) Delete five systems of records because maintenance of these systems is no longer relevant and necessary to accomplish an agency purpose; (2) reassign the numbers of those former systems of records in sequence to the remaining systems of records; (3) two systems of records to update system names; (4) four systems to update system locations; (5) two systems to update categories of records in the system; (6) five systems to update how the systems are stored; (7) five systems to update the names of the system managers; (8) two systems to update how records in the systems are retrieved; (9) five systems to update safeguards applied to those systems to specifically indicate how the systems' security and confidentiality are protected and to update routine uses to indicate for each of the five systems that readers should note the blanket routine uses; (10) one system to update retention periods and (11) add one additional system of records.

The Review Commission proposes changing the system location of OSHRC-1 Travel Records, to the Office of Financial and Administrative Services to accurately describe where this system is kept, reflecting an organizational change that altered the name of the office in which this system of records is maintained. Also proposed for this system, is changing its safeguards to state that its records are stored in lockable file cabinets in a locked office to ensure the system's security and confidentiality. The final change to this system is that the system manager is the Director of the Office of Financial and Administrative Services, reflecting an organizational and resultant job title change.

The Review Commission proposes several changes to OSHRC-2. Proposed is the renaming of this system of records as Mailing Lists for News Releases, Speeches, Booklets, Reports, to more accurately describe the records included in the system and changing the system location to reflect an organizational change that altered the name of the office in which the system is maintained. Additional changes are proposed for the storage methods to include personal computers, and to retrievability methods to include electronically by name, to reflect an alteration through the use of new technology. Other adjustments to this system include changing its safeguards to state that this system's paper components are maintained in file cabinets and, for the electronic components, to state that the personal computers are maintained in offices. During duty hours, file cabinets and personal computers are under surveillance of personnel charged with custody of the records and after duty hours are behind locked doors. Access to the cabinets and personal computers is limited to personnel having a need for access to perform their official functions. Additionally, access to personal computers is restricted through password identification procedures. The final proposed change to this system is that the system manager is the Public Affairs Specialist, an organizational change due to the alteration of that manager's title.

The Review Commission proposes deleting the systems of records previously identified as Cases Pending with the Commissioners, OSHRC-3; Judges Report on Pending Cases, OSHRC-4; Judge Summary Report, OSHRC-5; Cases Pending in the Decisional Process after Oral Decision, OSHRC-9; and Cases Acted on by Judges, OSHRC-10, because maintenance of these systems of records is no longer relevant and necessary to accomplish an agency purpose. These system numbers are reassigned as OSHRC-3 Applications for Employment; OSHRC-4 Payroll and Related Records; OSHRC-5 Cases Pending in General Counsel's Office and OSHRC-6 Case Management/Tracking System.

The Review Commission proposes changing the system manager for the system of records, Applications for Employment, OSHRC-3, to Personnel Management Specialist, due to an organizational change and to accurately state the title of that system's manager. Also proposed for this system is a change to its safeguards to state that this system of records is maintained in file cabinets. During duty hours, file cabinets are under surveillance of personnel charged with custody of the records and after duty hours, are behind locked doors. Access to the cabinets is limited to personnel having a need for access to perform their official functions.

The Review Commission proposes changing the name of OSHRC-4 to Payroll and Related Records to more accurately describe the records included in the system. Additional proposed adjustments include changing the location of this system to the OSHRC Office of Financial and Administrative Services and the U.S. Department of Agriculture's National Finance Center (NFC) in New Orleans, Louisiana to reflect an organizational change in the name of the Review Commission office that maintains these records and to reflect the change in the agency's payroll processing contractor. Also proposed is a change to this system of records' routine uses of records maintained in the system. These changes include the categories of users and the purposes of such uses and the title change to Director of the Office of Financial and Administrative Services for all references to the official to contact regarding uses of this system.

A change is proposed to the policies and practices for storing, retrieving, accessing, retaining, and disposing of records in this system. This change is proposed to indicate that storage is at both the Review Commission's offices and at the NFC, due to a change in the payroll processing contractor. The Review Commission proposes changing the storage of these systems to include personal computer, an alteration through the use of new technology. Changes to the safeguards of this system are proposed to indicate that Review Commission paper and microfiche records are maintained in file cabinets and, for the electronic components, to state that the personal computers are maintained in offices. During duty hours, file cabinets and personal computers are under surveillance of personnel charged with custody of the records and after duty hours are behind locked doors. Access to the cabinets and personal computers is limited to personnel having a need for access to perform their official functions. Additionally, access to personal computers is restricted through password identification procedures. Safeguards applied to the NFC paper systems of records are proposed to state that these are maintained in file cabinets and, for the electronic components, to state that the personal computers are maintained in offices. During duty hours, file cabinets and personal computers are under surveillance of personnel charged with custody of the records and after duty hours are behind locked doors. Access to the cabinets and personal computers is limited to personnel having a need for access to perform their official functions. Additionally, access to personal computers is restricted through password identification procedures.

Additional changes proposed to the system are to the retention and disposal period (to indicate that this is done in accordance with the National Archives and Records Administration's General Records Schedule) and to the system manager, due to an organizational change, to indicate that the Personnel Management Specialist serves that function.

The Review Commission proposes deleting the systems of records previously identified as Cases Pending in the Decisional Process after Oral Decisions, OSHRC-9, and Cases Acted on by Judge, OSHRC-10, because maintenance of these systems of records are no longer relevant and necessary to accomplish an agency purpose.

The Review Commission proposes changing the system location of Cases Pending in General Counsel's Office, OSHRC-5, to the Office of the General Counsel, and proposes changing the system manager to the General Counsel due to organizational changes to accurately state the system's location and manager. Also proposed for this system are changes to its storage method to include file server, an alteration through the use of new technology, and to its safeguards. Regarding this systems' safeguards, language is proposed to indicate that its paper records are maintained in file cabinets, which, during duty hours, are under surveillance of personnel charged with custody of the records and after duty hours are behind locked doors. For the electronic components maintained on the file server, language is proposed to state that the file server is maintained in a locked office which requires a coded password for access. Server access requires network authentication at the file server and application levels. Access to the file cabinets and server is limited to personnel having a need for access to perform their official functions.

The Review Commission proposes adding OSHRC-6, Case Management/Tracking System, to identify a previously unidentified system in which information by individual name or identifier is relevant and necessary to an agency purpose.

Comprehensive Listing Reflecting the Additions and Revisions Discussed Above

The systems of records are published in their entirety below.

Compilation of Published Blanket Routine Uses

In addition, for completeness, the Review Commission includes a compilation of the blanket routine uses which it has already published, newly organized here for ease of use. See 44 FR 18572 “Appendix” (March 28, 1979) and 53 FR 36142 (September 16, 1988).

Occupational Safety and Health Review Commission

Systems of Records

Table of Contents

Blanket Routine Uses

OSHRC-1 Travel Records

OSHRC-2 Mailing Lists for News Releases, Speeches, Booklets, Reports

OSHRC-3 Applications for Employment

OSHRC-4 Payroll and Related Records

OSHRC-5 Cases Pending in General Counsel's Office

OSHRC-6 Case Management/Tracking System

Blanket Routine Uses

In addition to the disclosures generally permitted under 5 U.S.C. 552a(b), including the specific routine uses set forth for each system of records, the Review Commission may disclose a record or information in a Privacy Act system of records under 5 U.S.C. 552 as provided below.

(1) It shall be a blanket routine use of the records in the Review Commission's systems of records to disclose them to the Department of Justice when—

(a) The Review Commission, or any of its components, or

(b) Any employee of the Review Commission in his or her official capacity, or

(c) Any employee of the Review Commission in his or her individual capacity where the Review Commission has agreed to represent the employee, or

(d) The United States, where the Review Commission determines that litigation is likely to affect the Review Commission or any of its components, is a party to litigation or has an interest in such litigation, and the use of such records by the Department of Justice is deemed by the Review Commission to be relevant and necessary to the litigation. In each case of disclosing records to the Department of Justice, the Review Commission must determine that the department is using the information contained in the records for a purpose that is compatible with the purpose for which the records were collected.

(2) It shall be a blanket routine use of the records contained in the systems of records maintained by the Review Commission to disclose them in a proceeding before a court or adjudicative body before which the Review Commission is authorized to appear, when—

(a) The Review Commission, or any component thereof, or

(b) Any employee of the Review Commission in his or her official capacity, or

(c) Any employee of the Review Commission in his or her individual capacity where the Review Commission has agreed to represent the employee, or

(d) The United States, where the Review Commission determines that litigation is likely to affect the Review Commission or any of its components, is a party to litigation or has an interest in such litigation, and the use of such records by the Department of Justice is deemed by the Review Commission to be relevant and necessary to the litigation. In each case of disclosing records to the Department of Justice, the Review Commission must determines that the department is using the information contained in the records for a purpose that is compatible with the purpose for which the records were collected.

(3) In the event that a system of records maintained by this agency to carry out its functions indicates a violation or potential violation of law, whether civil, criminal or regulatory in nature, and whether arising by general statute or order issued pursuant thereto, the relevant records in the system of records may be referred, as a blanket routine use to the appropriate agency, whether federal, state, local, or foreign, charged with the responsibility of investigating or prosecuting such violation or charged with enforcing or implementing the statute, or rule, regulation or order issued pursuant thereto.

(4) A record from a Review Commission system of records may be disclosed as a blanket routine use to a federal, state or local agency maintaining civil, criminal or other relevant enforcement information, such as current licenses, if necessary to obtain information relevant to an agency decision concerning the hiring or retention of an employee, the issuance of a security clearance, the letting of a contract, or the issuance of a license, grant or other benefit.

(5) A record from the Review Commission system of records may be disclosed as a blanket routine use to a federal agency, in response to its request, in connection with the hiring or retention of an employee, the issuance of a security clearance, the reporting of an investigation of any employee, the letting of a contract, or the issuance of a license, grant or other benefit by the requesting agency, to the extent that the information is relevant and necessary to the requesting agency's decision in the matter.

(6) A record from a Review Commission system of records may be disclosed as a blanket routine use to an authorized appeal grievance examiner, formal complaints manager, equal employment opportunity investigator, arbitrator or other duly authorized official engaged in investigation or settlement of a grievance, complaint, or appeal filed by an employee.

(7) A record from a Review Commission system of records may be disclosed as a blanket routine use to the United States Office of Personnel Management in accordance with the agency's responsibility for evaluation and oversight of federal personnel management.

(8) A record from a Review Commission system of records may be disclosed as a blanket routine use to officers and employees of a federal agency for purposes of audit.

(9) The information contained in a Review Commission system of records will be disclosed to the Office of Management and Budget in connection with the review of private relief legislation as set forth in OMB Circular No. A-19 at any stage of the legislative coordination and clearance process as set forth in that circular.

(10) A record in a Review Commission system of records may be disclosed as a routine use to a Member of Congress or to a Congressional staff member in response to a request from the individual about whom the record is maintained.

(12) A record in a Review Commission system of records may be disclosed to officers and employees of the General Services Administration in connection with administrative services provided to this Agency under agreement with GSA.

OSHRC-1

SYSTEM NAME:

Travel Records.

SYSTEM LOCATION:

Office of Financial and Administrative Services, OSHRC, 1120 20th St., NW., Washington, DC 20036-3457.

CATEGORIES OF INDIVIDUALS COVERED BY THE SYSTEM:

Names of persons who use Review Commission funds for travel.

CATEGORIES OF RECORDS IN THE SYSTEM:

This system of records shows all places to which travel was accomplished and the costs of such travel including subsistence costs.

AUTHORITY FOR MAINTENANCE OF THE SYSTEM:

29 U.S.C. 651 et seq.

PURPOSE(S):

For budgetary purposes within the agency and for reporting to Members of Congress.

ROUTINE USES OF RECORDS MAINTAINED IN THE SYSTEM, INCLUDING CATEGORIES OF USERS AND THE PURPOSES OF SUCH USES:

Disclosures may be made under this system:

1. To agency employees for budget preparation purposes.

2. To Members of Congress in their oversight capacity.

3. To other agencies, as appropriate

4. See Blanket Routine uses.

DISCLOSURES TO CONSUMER REPORTING AGENCIES:

None.

POLICIES AND PRACTICES FOR STORING, RETRIEVING, ACCESSING, RETAINING, AND DISPOSING OF RECORDS IN THE SYSTEM:

STORAGE:

Stored on paper in file cabinets.

RETRIEVABILITY:

Retrievable manually by name.

RETENTION AND DISPOSAL:

Maintained for 10 years.

SAFEGUARDS:

Records are maintained in file cabinets. During duty hours, file cabinets are under surveillance of personnel charged with custody of the records and after duty hours, are behind locked doors. Access to the cabinets is limited to personnel having a need for access to perform their official functions.

SYSTEM MANAGER(S) AND ADDRESS:

Director, Office of Financial and Administrative Services, 1120 20th St., NW., Washington, DC 20036-3457.

NOTIFICATION PROCEDURE:

Individuals interested in inquiring about their records should notify: Executive Director, OSHRC; 1120 20th St., NW., Washington, DC 20036-3457.

RECORD ACCESS PROCEDURES:

Individuals who wish to gain access to their records should notify: Executive Director, OSHRC; 1120 20th St., NW., Washington, DC 20036-3457.

CONTESTING RECORD PROCEDURES:

Individuals who wish to contest their records should notify: Executive Director, OSHRC; 1120 20th St., NW., Washington, D.C. 20036-3457.

RECORD SOURCE CATEGORIES:

Information in this system of records comes from the individual to whom it applies.

EXEMPTIONS CLAIMED FOR THE SYSTEM:

None.

OSHRC-2

SYSTEM NAME:

Mailing Lists for News Releases, Speeches, Booklets, Reports.

SYSTEM LOCATION:

Public Information Office, OSHRC, 1120 20th St., NW., Washington, DC 20036-3457.

CATEGORIES OF INDIVIDUALS COVERED BY THE SYSTEM:

Names of all persons who are sent information about OSHRC.

CATEGORIES OF RECORDS IN THE SYSTEM:

This system of records contains individuals' addresses, business affiliations, and the information they desire to receive.

AUTHORITY FOR MAINTENANCE OF THE SYSTEM:

29 U.S.C. 651 et seq.

PURPOSE(S):

To mail information to requesters relating to hiring of personnel, case dispositions, procedures, speeches, and statistical reports.

ROUTINE USES OF RECORDS MAINTAINED IN THE SYSTEM, INCLUDING CATEGORIES OF USERS AND THE PURPOSES OF SUCH USES:

Disclosures may be made under this system:

1. To agency employees for information dissemination purposes.

2. To other agencies, as appropriate.

3. See Blanket Routine uses.

DISCLOSURES TO CONSUMER REPORTING AGENCIES:

None.

POLICIES AND PRACTICES FOR STORING, RETRIEVING, ACCESSING, RETAINING, AND DISPOSING OF RECORDS IN THE SYSTEM:

STORAGE:

Stored on paper in file cabinets and on personal computer.

RETRIEVABILITY:

Retrievable manually and electronically by name.

RETENTION AND DISPOSAL:

Maintained indefinitely unless the individuals requests that his/her reference be deleted and then that reference is disposed of immediately.

SAFEGUARDS:

Paper records are maintained in file cabinets, which, during duty hours, are under surveillance of personnel charged with custody of the records and after duty hours, are behind locked doors. Access to the cabinets is limited to personnel having a need for access to perform their official functions. Electronic records are on personal computers maintained in offices under surveillance of personnel charged with custody of the records, and after duty hours, personal computers are behind locked doors. Access to personal computers is limited to personnel having a need for access to perform their official functions and is additionally restricted through password identification procedures.

SYSTEM MANAGER(S) AND ADDRESS:

Public Information Officer, 1120 20th St., NW., Washington, DC 20036-3457.

RECORD ACCESS PROCEDURES:

Individuals who wish to gain access to their records should notify: Executive Director, OSHRC; 1120 20th St., NW., Washington, DC 20036-3457.

NOTIFICATION PROCEDURE:

Individuals interested in inquiring about their records should notify: Executive Director, OSHRC; 1120 20th St., NW., Washington, DC 20036-3457.

CONTESTING RECORD PROCEDURES:

Individuals who wish to contest their records should notify: Executive Director, OSHRC; 1120 20th St., NW., Washington, DC 20036-3457.

RECORD SOURCE CATEGORIES:

Information in this system either comes from the individual to whom it applies or was derived from private source directories.

EXEMPTIONS CLAIMED FOR THE SYSTEM:

None.

OSHRC-3

SYSTEM NAME:

Applications for Employment.

SYSTEM LOCATION:

Personnel Office, 1120 20th Street NW., Washington, DC 20036-3457.

CATEGORIES OF INDIVIDUALS COVERED BY THE SYSTEM:

All those desiring employment with OSHRC who have submitted a Form 171, resume, or other application.

CATEGORIES OF RECORDS IN THE SYSTEM:

This system of records contains information relating to (1) applicants' name, (2) birth date, (3) veterans preference, (4) tenure, (5) past and present salaries, (6) grades (7) position title, (8) awards and (9) other information relating to the status of an individual, as well as (10) education and (11) test scores.

AUTHORITY FOR MAINTENANCE OF THE SYSTEM:

5 U.S.C. Sections 3301; 1302.

PURPOSE(S):

To refer applications to those offices within the agency having position vacancies.

ROUTINE USES OF RECORDS MAINTAINED IN THE SYSTEM, INCLUDING CATEGORIES OF USERS AND THE PURPOSES OF SUCH USES:

Disclosures may be made under this system:

1. To agency personnel with personnel vacancies.

2. See Blanket Routine uses.

DISCLOSURES TO CONSUMER REPORTING AGENCIES:

None.

POLICIES AND PRACTICES FOR STORING, RETRIEVING, ACCESSING, RETAINING, AND DISPOSING OF RECORDS IN THE SYSTEM:

STORAGE:

The records are maintained in folders.

RETRIEVABILITY:

Retrievable manually by applicant's name.

RETENTION AND DISPOSAL:

Maintained up to one year and then are destroyed.

SAFEGUARDS:

Records are maintained in file cabinets. During duty hours, file cabinets are under surveillance of personnel charged with custody of the records and after duty hours, are behind locked doors. Access to the cabinets is limited to personnel having a need for access to perform their official functions.

SYSTEM MANAGER(S) AND ADDRESS:

Personnel Management Specialist, 1120 20th St., NW., Washington, DC 20036-3457.

RECORD ACCESS PROCEDURES:

Individuals who wish to gain access to their records should notify: Executive Director, OSHRC; 1120 20th St., NW., Washington, DC 20036-3457.

NOTIFICATION PROCEDURE:

Individuals interested in inquiring about their records should notify: Executive Director, OSHRC; 1120 20th St., NW., Washington, DC 20036-3457.

CONTESTING RECORD PROCEDURES:

Individuals who wish to contest their records should notify: Executive Director, OSHRC; 1120 20th St., NW., Washington, DC 20036-3457.

RECORD SOURCE CATEGORIES:

Information in this system comes from the individual to whom it applies.

EXEMPTIONS CLAIMED FOR THE SYSTEM:

None.

OSHRC-4

SYSTEM NAME:

Payroll and Related Records.

SYSTEM LOCATION:

(1) Office of Financial and Administrative Services, 1120 20th St., NW., Washington, DC 20036-3457; and (2) United States Department of Agriculture's National Finance Center, P.O. Box 60000, New Orleans, LA 70160. NFC maintains records for OSHRC under interagency agreement.

CATEGORIES OF INDIVIDUALS COVERED BY THE SYSTEM:

Current and former employees of OSHRC, including Commission members.

CATEGORIES OF RECORDS IN THE SYSTEM:

Various payroll records, including, among other documents: time and attendance cards; payment vouchers; comprehensive listings of employees; health benefits records; transit benefit records; requests for deductions; tax forms; W-2 forms; overtime requests; leave data; and retirement records.

AUTHORITY FOR MAINTENANCE OF THE SYSTEM:

31 U.S.C., generally. Also 29 U.S.C. 651, et seq.

PURPOSE(S):

Records are used by OSHRC and NFC employees to maintain adequate payroll information for OSHRC employees and members, and otherwise by OSHRC and NFC employees who have a need for the record in the performance of their duties.

ROUTINE USES OF RECORDS MAINTAINED IN THE SYSTEM, INCLUDING CATEGORIES OF USERS AND THE PURPOSES OF SUCH USES:

Disclosures may be made under this system:

1. See Blanket Routine uses.

2. Records are also disclosed to GAO for audits; to the Internal Revenue Service for investigation; and to private attorneys, pursuant to a power of attorney.

3. A copy of an employee's Department of the Treasury Form W-2, Wage and Tax Statement, also is disclosed to the state, city, or other local jurisdiction which is authorized to tax the employee's compensation. The record will be provided in accordance with a withholding agreement between the state, city, or other local jurisdiction and the Department of the Treasury pursuant to 5 U.S.C. 5516, 5517, or in the absence thereof, in response to a written request from an appropriate official of the taxing jurisdiction to the OSHRC Director of the Office of Financial and Administrative Services. The request must include a copy of the applicable statute or ordinance authorizing the taxation of compensation and should indicate whether the authority of the jurisdiction to tax the employee is based on place of residence, place of employment, or both.

4. Pursuant to a withholding agreement between a city and the Department of the Treasury (5 U.S.C. 5220), copies of executed city tax withholding certifications shall be furnished the city in response to written requests from an appropriate city official to the Director of the Office of Financial and Administrative Services.

5. In the absence of a withholding agreement, the Social Security number will be furnished only to a taxing jurisdiction which has furnished this agency with evidence of its independent authority to compel disclosure of the Social Security Number, in accordance with Section 7 of the Privacy Act, Pub. L. 93-579.

DISCLOSURES TO CONSUMER REPORTING AGENCIES:

Disclosures may be made from this system to “consumer reporting agencies” as defined in the Fair Credit Reporting Act (15 U.S.C. 1781a(f)) or the Federal Claims Collection Act of 1966 (31 U.S.C. 3701(a)(3)) in accordance with 31 U.S.C. 3711(f).

POLICIES AND PRACTICES FOR STORING, RETRIEVING, ACCESSING, RETAINING, AND DISPOSING OF RECORDS IN THE SYSTEM:

STORAGE:

Duplicate records are stored on paper and on microfiche at OSHRC offices, 1120 20th St., NW., Washington, DC 20036-3457, and at the offices of the NFC, where records are also stored on computer file server.

RETRIEVABILITY:

Retrievable manually and electronically by Social Security Number and name.

RETENTION AND DISPOSAL:

Retained and disposed of in accordance with the National Archives and Records Administration's General Records Schedule requirements for payroll-related records.

SAFEGUARDS:

Paper and microfiche records are maintained in file cabinets, which, during duty hours, are under surveillance of personnel charged with custody of the records and after duty hours, are behind locked doors. Access to the cabinets is limited to personnel having a need for access to perform their official functions. Electronic records are on computer file server maintained in an office under surveillance of personnel charged with custody of the records. In addition, the server is located in a locked room which requires a coded password for access. Server access requires network authentication at the server and application levels.

SYSTEM MANAGER(S) AND ADDRESS:

Personnel Management Specialist, 1120 20th St., NW., Washington, DC 20036-3457.

NOTIFICATION PROCEDURE:

Individuals interested in inquiring about their records should notify: Executive Director, OSHRC; 1120 20th St., NW., Washington, DC 20036-3457.

RECORD ACCESS PROCEDURES:

Individuals who wish to gain access to their records should notify: Executive Director, OSHRC; 1120 20th Str., NW., Washington, DC 20036-3457.

CONTESTING RECORD PROCEDURES:

Individuals who wish to contest their records should notify: Executive Director, OSHRC; 1120 20th St., NW., Washington, DC 20036-3457.

RECORD SOURCE CATEGORIES:

Information in this system either comes from the individual to whom it applies or is derived from information compiled by Commission employees performing administrative duties.

EXEMPTIONS CLAIMED FOR THE SYSTEM:

None.

OSHRC-5

SYSTEM NAME:

Cases Pending in General Counsel's Office.

SYSTEM LOCATION:

Office of the General Counsel, 1120 20th Street NW., Washington, DC 20036-3457.

CATEGORIES OF INDIVIDUALS COVERED BY THE SYSTEM:

OSHRC attorneys (including supervisory attorneys) who have been assigned cases by OGC.

CATEGORIES OF RECORDS IN THE SYSTEM:

This system of records contains cases before the Review Commission which have been assigned to OGC for processing. It identifies (1) the case name; (2) the case docket number; (3) the attorneys (including supervising attorneys) who most recently have been assigned to work on the case; and (4) the most recent dates of the various stages in the progress of the case, starting with assignment to OGC and ending with issuance of a decision.

AUTHORITY FOR MAINTENANCE OF THE SYSTEM:

29 U.S.C. 661(d).

PURPOSE(S):

To make management decisions with respect to case processing activities.

ROUTINE USES OF RECORDS MAINTAINED IN THE SYSTEM, INCLUDING CATEGORIES OF USERS AND THE PURPOSES OF SUCH USES:

Disclosures may be made under this system:

1. To the Chairman.

2. To the Executive Director.

3. To the General Counsel.

For use in making management decisions with respect to case processing and agency administration.

DISCLOSURES TO CONSUMER REPORTING AGENCIES:

None.

POLICIES AND PRACTICES FOR STORING, RETRIEVING, ACCESSING, RETAINING, AND DISPOSING OF RECORDS IN THE SYSTEM:

STORAGE:

Maintained on personal computers and on paper in report form in file cabinets.

RETRIEVABILITY:

Retrievable manually and electronically by case name, docket number, date of case activity, name of attorney or supervising attorney.

RETENTION AND DISPOSAL:

Maintained indefinitely on personal computer and paper reports generated from the system are kept for as long as needed for case management purposes.

SAFEGUARDS:

Paper records are maintained in file cabinets, which, during duty hours, are under surveillance of personnel charged with custody of the records and after duty hours, are behind locked doors. Access to the cabinets is limited to personnel having a need for access to perform their official functions. Electronic records are on personal computers maintained in offices under surveillance of personnel charged with custody of the records, and after duty hours, personal computers are behind locked doors. Access to personal computers is limited to personnel having a need for access to perform their official functions and is additionally restricted through password identification procedures.

SYSTEM MANAGER(S) AND ADDRESS:

General Counsel, 1120 20th St., NW., Washington, DC 20036-3457.

NOTIFICATION PROCEDURE:

Individuals interested in inquiring about their records should notify: Executive Director, OSHRC; 1120 20th St., NW., Washington, DC 20036-3457.

RECORD ACCESS PROCEDURES:

Individuals who wish to gain access to their records should notify: Executive Director, OSHRC; 1120 20th St., NW., Washington, DC 20036-3457.

CONTESTING RECORD PROCEDURES:

Individuals who wish to contest their records should notify: Executive Director, OSHRC; 1120 20th St., NW., Washington, DC 20036-3457.

RECORD SOURCE CATEGORIES:

Information in this system is derived from the individual to whom it applies or is derived from case processing records maintained by the Office of the Executive Secretary and the Office of the General Counsel.

EXEMPTIONS CLAIMED FOR THE SYSTEM:

None.

OSHRC-6

SYSTEM NAME:

Case Management/Tracking System

SYSTEM LOCATION:

Information Technology Office, 1120 20th Street NW., Washington, DC 20036-3457.

CATEGORIES OF INDIVIDUALS COVERED BY THE SYSTEM:

This system lists the events in cases before Review Commission Administrative Law Judges and Commission members. It lists: (1) The names of Administrative Law Judges (ALJ); (2) the names of attorneys; (3) the names of Commission members; (4) events occurring in cases and the dates on which they occurred; (5) documents filed in cases and the dates on which they were filed; (7) the names of persons who entered each case record, the dates of entries as well as when it was last modified.

CATEGORIES OF RECORDS IN THE SYSTEM:

It lists: (1) The names of Administrative Law Judges (ALJ); (2) the names of attorneys; (3) the names of Commission members; (4) events occurring in cases and the dates on which they occurred; (5) documents filed in cases and the dates on which they were filed; (7) the names of persons who entered each case record, the dates of entries and; (8) when a record was last modified.

AUTHORITY FOR MAINTENANCE OF THE SYSTEM:

29 U.S.C. 661(d).

PURPOSE:

For administrative purposes.

ROUTINE USES OF RECORDS MAINTAINED IN THE SYSTEM, INCLUDING CATEGORIES OF USERS AND THE PURPOSES OF SUCH USES:

Disclosures may be made under this system:

1. To agency management officials for use in making management decisions with respect to case processing and agency administration.

DISCLOSURES TO CONSUMER REPORTING AGENCIES:

None.

POLICIES AND PRACTICES FOR STORING, RETRIEVING, ACCESSING, RETAINING, AND DISPOSING OF RECORDS IN THE SYSTEM:

STORAGE:

Electronic records stored on computer file server; paper in report form stored in binders.

RETRIEVABILITY:

Retrievable electronically and manually by individual name, case docket number, case name or computer assigned reference code.

RETENTION AND DISPOSAL:

Maintained indefinitely on computer file server, and paper reports generated from the system are kept for as long as needed for administrative purposes.

SAFEGUARDS:

Computer file server located in locked room which requires a coded password for access. Access to the server is limited to personnel having a need for access to perform their official functions. In addition, server access requires network authentication at the server and application levels. Paper records are maintained in file cabinets, which, during duty hours, are under surveillance of personnel charged with custody of the records and after duty hours, are behind locked doors. Access to the cabinets is limited to personnel having a need for access to perform their official functions.

SYSTEM MANAGER(S) AND ADDRESS:

Computer Specialist, 1120 20th St., NW., Washington, DC 20036-3457.

NOTIFICATION PROCEDURE:

Individuals interested in inquiring about their records should notify: Executive Director, OSHRC; 1120 20th St., NW., Washington, DC 20036-3457.

RECORD ACCESS PROCEDURES:

Individuals who wish to gain access to their records should notify: Executive Director, OSHRC; 1120 20th St., NW., Washington, DC 20036-3457.

CONTESTING RECORD PROCEDURES:

Individuals who wish to contest their records should notify: Executive Director, OSHRC; 1120 20th St., NW., Washington, DC 20036-3457.

RECORD SOURCE CATEGORIES:

Information in this system is derived from the individual to whom it applies or is derived from case processing records maintained by the Office of the Executive Secretary and the Office of the General Counsel or from information provided by the parties who appear before the Review Commission.

EXEMPTIONS CLAIMED FOR THE SYSTEM:

None.

Dated: August 6, 2001.
Patricia A. Randle,
Executive Director.

[FR Doc. 01-20320 Filed 8-10-01; 8:45 am]

BILLING CODE 7600-01-P